DEPARTMENT OF ENERGY

Federal Energy Regulatory Commission

Combined Notice of Filings #2

Take notice that the Commission received the following electric corporate filings:

Docket Numbers: EC14-31-000.

Applicants: Prairie Breeze Wind Energy LLC.

Description: Application for Authorization under Section 203 of the Federal Power Act and Request for Waivers and Expedited Action of Prairie Breeze Wind Energy LLC.

Filed Date: 11/18/13.

Accession Number: 20131118-5077.

Comments Due: 5 p.m. e.t. 12/9/13.

Take notice that the Commission received the following electric rate filings:

Docket Numbers: ER14-417-000.

Applicants: Duke Energy Carolinas, LLC.

Description: NCMPA1 RS 318 Amendment to be effective 12/31/2013.

Filed Date: 11/18/13.

Accession Number: 20131118-5090.

Comments Due: 5 p.m. e.t. 12/9/13.

Docket Numbers: ER14-418-000.

Applicants: Southwest Power Pool, Inc.

Description: City of Coffeyville Revised Stated Rate to be effective 7/1/2013.

Filed Date: 11/18/13.

Accession Number: 20131118-5094.

Comments Due: 5 p.m. e.t. 12/9/13.

Docket Numbers: ER14-419-000.

Applicants: Michigan Electric Transmission Company, LLC.

Description: Filing of CIAC Agreement with Wolverine Power Supply Cooperative, Inc. to be effective 1/18/2014.

Filed Date: 11/18/13.

Accession Number: 20131118-5095.

Comments Due: 5 p.m. e.t. 12/9/13.

Docket Numbers: ER14-420-000.

Applicants: Macquarie Energy LLC.

Description: First Rev MBR Tariff to be effective 3/1/2014.

Filed Date: 11/18/13.

Accession Number: 20131118-5096.

Comments Due: 5 p.m. e.t. 12/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2013.
Nathaniel J. Davis, Sr.,
Deputy Secretary.

[FR Doc. 2013-28347 Filed 11-25-13; 8:45 am]

BILLING CODE 6717-01-P